DEPARTMENT OF THE INTERIOR

National Park Service

Notice of Inventory Completion: Thomas Burke Memorial Washington State Museum, University of Washington, Seattle, WA and Central Washington University, Department of Anthropology and Museum, Ellensburg, WA

AGENCY: National Park Service, Interior.

ACTION: Notice.

Notice is here given in accordance with the Native American Graves Protection and Repatriation Act (NAGPRA), 25 U.S.C. 3003, of the completion of an inventory of human remains and associated funerary objects in the control of the Thomas Burke Memorial Washington State Museum (Burke Museum), University of Washington, Seattle, WA and Central Washington University, Department of Anthropology and Museum, Ellensburg, WA. The human remains and associated funerary objects were removed from Yakima County, WA.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by the Burke Museum and Central Washington University professional staff in consultation with representatives of the Confederated Tribes and Bands of the Yakama Nation, Washington; Confederated Tribes of the Colville Reservation, Washington; Confederated Tribes of the Umatilla Reservation, Oregon; and Confederated Tribes of the Warm Springs Reservation of Oregon.

In 1956, human remains representing a minimum of one individual were removed from Wenas Creek (45-YK-51), Yakima County, WA, by Claude Warren, University of Washington student, as a part of an excavation for the Pacific Northwest Pipeline Survey. In 1966, the collection was formally accessioned by the museum (Burke Accn. #1966-85). In February 1974, the Burke Museum legally transferred portions of the human remains from Burial #2 to Central Washington University. No known individual was identified. The 68 associated funerary objects are 13 mammal bone fragments, 2 fish bones, 28 dog bones, 1 rodent bone, 1 deer bone, 1 antler fragment, 10 charcoal fragments, 10 flakes, 1 hammer stone, and 1 unmodified stone.

The burial was discovered in a flexed position at the bottom of a talus slope and was covered with a stone cyst of basalt and river cobbles. There is evidence of burning on the right scapula, but no other indication of cremation. This burial pattern is consistent with Yakama burial practices (Schuster 1990: 338). According to Mr. Warren, a copper kettle was placed over the top of the human remains, indicating a historic burial. The whereabouts of the copper kettle are unknown and the Burke Museum has no record of this copper kettle in their collection.

Wenas Creek falls within the lands ceded to the Confederated Tribes and Bands of the Yakama Nation, Washington in the Yakima Treaty of 1855. Published ethnographic information confirms that the area surrounding Wenas Creek was culturally affiliated with the Yakama (Swanton 1952, Daugherty 1973, Schuster 1998, Mooney 1896, Ray 1936, and Spier 1936). Furthermore, the Confederated Tribes and Bands of the Yakama Nation, Washington have identified site 45-YK-51 as part of their traditional occupation area from pre-contact times and within their aboriginal territory. The Si'la-hlama band of the Yakama people occupied the area along the Yakima River between Wenas Creek and Umtanum Creeks (Swanton 1952). The Lower Yakima bands were also associated with the area (Schuster 1998). Descendants of the Si'la-hlama and Lower Yakima bands are members of the Confederated Tribes and Bands of the Yakama Nation, Washington.

Officials of the Burke Museum and Central Washington University have determined that, pursuant to 25 U.S.C. 3001 (9-10), the human remains described above represent the physical remains of one individual of Native American ancestry. Officials of the Burke Museum and Central Washington University also have determined that, pursuant to 25 U.S.C. 3001 (3)(A), the 68 objects described above are reasonably believed to have been placed with or near individual human remains at the time of death or later as part of the death rite or ceremony. Lastly, officials of the Burke Museum and Central Washington University have determined that, pursuant to 25 U.S.C. 3001 (2), there is a relationship of shared group identity that can be reasonably traced between the Native American human remains and associated funerary objects and the Confederated Tribes and Bands of the Yakama Nation, Washington.

Representatives of any other Indian tribe that believes itself to be culturally affiliated with the human remains and associated funerary objects should contact Dr. Peter Lape, Burke Museum, University of Washington, Box 353010, Seattle, WA 98195-3010, telephone (206) 685-2282 and Lourdes Henebry- DeLeon, NAGPRA Program Director, Central Washington University, Department of Anthropology and Museum, Mailstop 7544, Ellensburg, WA 98926, telephone (509) 963-2671 before March 12, 2007. Repatriation of the human remains and associated funerary objects to the Confederated Tribes and Bands of the Yakama Nation, Washington may proceed after that date if no additional claimants come forward.

The Burke Museum is responsible for notifying the Confederated Tribes and Bands of the Yakama Nation, Washington; Confederated Tribes of the Colville Reservation, Washington; Confederated Tribes of the Umatilla Reservation, Oregon; and Confederated Tribes of the Warm Springs Reservation of Oregon that this notice has been published.

Dated: January 11, 2007
Sherry Hutt,
Manager, National NAGPRA Program.

[FR Doc. E7-2067 Filed 2-7-07; 8:45 am]

BILLING CODE 4312-50-S